DEPARTMENT OF STATE

[Public Notice 5071]

Notice of Meeting of the Cultural Property Advisory Committee

In accordance with the provisions of the Convention on Cultural Property Implementation Act (19 U.S.C. 2601 et seq.), there will be a meeting of the Cultural Property Advisory Committee on Wednesday, July 13, 2005, from approximately 9 a.m. to 5 p.m., and on Thursday, July 14, from approximately 9 a.m. to 2 p.m., at the Department of State, Annex 44, Room 840, 301 4th St., SW., Washington, DC. During its meeting the Committee will review a proposal to extend the Memorandum of Understanding Between the Government of the United States of America and the Government of the Republic of Nicaragua Concerning the Imposition of Import Restrictions on Archaeological Material from the Pre-Hispanic Cultures of the Republic of Nicaragua. The Government of the Republic of Nicaragua has notified the Government of the United States of America of its interest in such an extension.

The Committee's responsibilities are carried out in accordance with provisions of the Convention on Cultural Property Implementation Act (19 U.S.C. 2601 et seq.). The text of the Act and subject Memorandum of Understanding, as well as related information may be found at http://exchanges.state.gov/culprop. Portions of the meeting on July 13 and 14 will be closed pursuant to 5 U.S.C. 552b(c)(9)(B) and 19 U.S.C. 2605(h). However, on July 13, the Committee will hold an open session from approximately 10:30 a.m. to 11:30 a.m., to receive oral public comment on the proposal to extend. Persons wishing to attend this open session should notify the Cultural Heritage Center of the Department of State at (202) 619-6612 by Wednesday, July 6, 2005, 3 p.m. (E.D.T.) to arrange for admission, as seating is limited.

Those who wish to make oral presentations should request to be scheduled and submit a written text of the oral comments by June 30 to allow time for distribution to Committee members prior to the meeting. Oral comments will be limited to five minutes each to allow time for questions from members of the Committee and must specifically address the determinations under Section 303(a)(1) of the Convention on Cultural Property Implementation Act, 19 U.S.C. 2602, pursuant to which the Committee must make findings. This citation for the determinations can be found at the web site noted above.

The Committee also invites written comments and asks that they be submitted no later than June 30. All written materials, including the written texts of oral statements, should be faxed to (202) 260-4893. If five pages or more, 20 duplicates of written materials should be sent by express mail to: Cultural Heritage Center, Department of State, Annex 44, 301 4th Street, SW., Washington, DC 20547; tel: (202) 619-6612.

Dated: June 8, 2005.
Patricia S. Harrison,
Assistant Secretary for Educational and Cultural Affairs, Department of State.

[FR Doc. 05-12458 Filed 6-22-05; 8:45 am]

BILLING CODE 4710-05-P